FEDERAL RETIREMENT THRIFT INVESTMENT BOARD

Sunshine Act Meeting

Time and Date: 10:00 a.m. (EDT) June 17, 2002.

Place: 4th Floor, Conference Room, 1250 H Street, NW., Washington, DC.

Status: Parts will be open to the public and part closed to the public.

Matters To Be Considered:

Parts Open to the Public

1. Approval of the minutes of the May 20, 2002, Board member meeting.

2. Thrift Savings Plan activity report by the Executive Director.

Part Closed to the Public

Discussion of litigation.

CONTACT PERSON FOR MORE INFORMATION: Thomas J. Trabucco, Director, Office of External Affairs, (202) 942-1640.

Dated: June 3, 2002.
Elizabeth S. Woodruff,
Secretary of the Board, Federal Retirement Thrift Investment Board.

[FR Doc. 02-14278 Filed 6-3-02; 4:50 pm]

BILLING CODE 6760-01-M